DEPARTMENT OF HOUSING AND URBAN DEVELOPMENT

[Docket No. FR-5045-N-50]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Kathryn Halvorson, Director, Air Force Real Property Agency, 1700 North Moore St., Suite 2300, Arlington, VA 22209-2802; (703) 696-5502; ARMY: Ms. Veronica Rines, Headquarters, Department of the Army, Office of the Assistant Chief of Staff for Installation Management, Attn: DAIM-ZS, Room 8536, 2511 Jefferson Davis Hwy, Arlington, VA 22202; (703) 601-2545; ENERGY: Mr. John Watson, Department of Energy, Office of Engineering & Construction Management, ME-90, 1000 Independence Ave., SW., Washington, DC 20585: (202) 586-0072; GSA: Mr. John Kelly, Acting Deputy Assistant Commissioner, General Services Administration, Office of Property Disposal, 18th & F Streets, NW., Washington, DC 20405; (202) 501-0084; INTERIOR: Ms. Linda Tribby, Acquisition & Property Management, Department of the Interior, 1849 C Street, NW., MS5512, Washington, DC 20240; (202) 513-0747; NAVY: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: December 7, 2006.
Mark R. Johnston,
Acting Deputy Assistant, Secretary for Special Needs.

Title V, Federal Surplus Property Program Federal Register Report for 12/15/2006

Suitable/Unavailable Properties

Building

Colorado

Federal Building

1520 E. Willamette St.

Colorado Springs Co: El Paso CO 80909

Landholding Agency: GSA

Property Number: 54200640004

Status: Excess

GSA Number: 7-G-CO-0660

Comments: 50,363 sq. ft., needs major rehab, available in approx. 24 months, legal constraints

Summary for SUITABLE/UNAVAILABLE PROPERTIES = Total number of Properties 1

Unsuitable Properties

Building

California

378 Bldgs.

Edwards AFB

Kern CA 93524

Landholding Agency: Air Force

Property Number: 18200640001

Status: Excess

Reasons: Extensive deterioration; Secured Area

Florida

Bldgs. 2349, 2351

Tyndall AFB

Bay FL 32403

Landholding Agency: Air Force

Property Number: 18200640002

Status: Unutilized

Reasons: Within airport runway clear zone

Georgia

Bldgs. 90259, 90260

Bowmans Island

Cumming Co: Forsyth GA 30041

Landholding Agency: Interior

Property Number: 61200640008

Status: Excess

Reasons: Extensive deterioration

Hawaii

Bldg. 00182

Kalaeloa

Kapolei HI

Landholding Agency: Army

Property Number: 21200640108

Status: Unutilized

Reasons: Extensive deterioration

Bldg. 00537

Kalaeloa

Kapolei HI 96707

Landholding Agency: Army

Property Number: 21200640109

Status: Unutilized

Reasons: Extensive deterioration

Bldgs. 01676, 01677

Kalaeloa

Kapolei HI 96707

Landholding Agency: Army

Property Number: 21200640110

Status: Unutilized

Reasons: Extensive deterioration

Bldgs. 01818, 01875

Kalaeloa

Kapolei HI 96707

Landholding Agency: Army

Property Number: 21200640111

Status: Unutilized

Reasons: Extensive deterioration

Bldg. 01954

Kalaeloa

Kapolei HI 96707

Landholding Agency: Army

Property Number: 21200640112

Status: Unutilized

Reasons: Extensive deterioration

14 Garage Facilities

Naval Magazine

Waianae HI 96792

Landholding Agency: Navy

Property Number: 77200640039

Status: Excess

Reasons: Secured Area; Extensive deterioration

2 Garages

Naval Magazine

Waianae HI 96792

Landholding Agency: Navy

Property Number: 77200640040

Status: Excess

Reasons: Secured Area; Extensive deterioration

Bldgs. 305, 350

Naval Magazine

Waianae HI 96792

Landholding Agency: Navy

Property Number: 77200640041

Status: Excess

Reasons: Secured Area; Extensive deterioration

Iowa

Bldgs. 900, 901

Iowa Air Base

Sioux City Co: Woodbury IA 51111

Landholding Agency: Air Force

Property Number: 18200640003

Status: Excess

Reasons: Within 2000 ft. of flammable or explosive material; Secured Area

Kansas

22 Duplexes

McConnell AFB

Sedgwick KS 67210

Landholding Agency: Air Force

Property Number: 18200640004

Status: Excess

Reasons: Secured Area

5 Duplexes

McConnell AFB

Sedgwick KS 67210

Landholding Agency: Air Force

Property Number: 18200640005

Status: Excess

Directions: 2009, 2224, 2312, 2315, 2357

Reasons: Secured Area

Bldgs. 2131, 2133

McConnell AFB

Sedgwick KS 67210

Landholding Agency: Air Force

Property Number: 18200640006

Status: Excess

Reasons: Secured Area

Bldgs. 2201, 2301

McConnell AFB

Sedgwick KS 67210

Landholding Agency: Air Force

Property Number: 18200640007

Status: Excess

Reasons: Secured Area

15 Single Units

McConnell AFB

Sedgwick KS 67210

Landholding Agency: Air Force

Property Number: 18200640008

Status: Excess

Reasons: Secured Area

Maryland

Bldg. 01426

Fort Detrick

Frederick MD 21702

Landholding Agency: Army

Property Number: 21200640113

Status: Unutilized

Reasons: Extensive deterioration

Michigan

Bldg. 5010

Alpena CRTC

Alpena MI

Landholding Agency: Air Force

Property Number: 18200640009

Status: Unutilized

Reasons: Secured Area

Montana

Bldg. 360

Malmstrom AFB

Cascade MT 59402

Landholding Agency: Air Force

Property Number: 18200640010

Status: Unutilized

Reasons: Within 2000 ft. of flammable or explosive material; Secured Area

New Mexico

Bldg. 1910

Kirtland AFB

Bernalillo NM 87117

Landholding Agency: Air Force

Property Number: 18200640011

Status: Unutilized

Reasons: Secured Area

North Carolina

Bldgs. 41443, 41443, 41444

Fort Bragg

Ft. Bragg NC 28310

Landholding Agency: Army

Property Number: 21200640114

Status: Unutilized

Reasons: Extensive deterioration

North Dakota

8 Bldgs.

Grand Forks AFB

Grand Forks ND 58205

Landholding Agency: Air Force

Property Number: 18200640012

Status: Unutilized

Directions: 6102, 6105, 6106, 6108, 6202, 6205, 6207, 6208

Reasons: Within 2000 ft. of flammable or explosive material

6 Bldgs.

Grand Forks AFB

Grand Forks ND 58205

Landholding Agency: Air Force

Property Number: 18200640013

Status: Unutilized

Directions: 6103, 6104, 6107, 6109, 6204, 6206

Reasons: Within 2000 ft. of flammable or explosive material

Bldg. 1828

Grand Forks AFB

Grand Forks ND 58205

Landholding Agency: Air Force

Property Number: 18200640014

Status: Unutilized

Reasons: Within airport runway clear zone; Secured Area; Within 2000 ft. of flammable or explosive material

Bldg. 1329

Grand Forks AFB

Grand Forks ND 58205

Landholding Agency: Air Force

Property Number: 18200640015

Status: Unutilized

Reasons: Within airport runway clear zone; Within 2000 ft. of flammable or explosive material; Secured Area

Bldgs. 1330, 1830

Grand Forks AFB

Grand Forks ND 58205

Landholding Agency: Air Force

Property Number: 18200640016

Status: Unutilized

Reasons: Secured Area; Within airport runway clear zone; Within 2000 ft. of flammable or explosive material

5 Bldgs.

Grand Forks AFB

Grand Forks ND 58205

Landholding Agency: Air Force

Property Number: 18200640017

Status: Unutilized

Directions: 1202, 1212, 1216, 1219, 1223

Reasons: Within airport runway clear zone; Secured Area; Within 2000 ft. of flammable or explosive material

8 Bldgs.

Grand Forks AFB

Grand Forks ND 58205

Landholding Agency: Air Force

Property Number: 18200640018

Status: Unutilized

Directions: 1204, 1206, 1210, 1213, 1214, 1215, 1217, 1221

Reasons: Within airport runway clear zone; Within 2000 ft. of flammable or explosive material; Secured Area

5 Bldgs.

Grand Forks AFB

Grand Forks ND 58205

Landholding Agency: Air Force

Property Number: 18200640019

Status: Unutilized

Directions: 1381, 1371, 1378, 1358, 1349

Reasons: Within 2000 ft. of flammable or explosive material; Within airport runway clear zone; Secured Area

Bldg. 1211

Grand Forks AFB

Grand Forks ND 58205

Landholding Agency: Air Force

Property Number: 18200640020

Status: Unutilized

Reasons: Within 2000 ft. of flammable or explosive material; Within airport runway clear zone; Secured Area

22 Bldgs.

Grand Forks AFB

Grand Forks ND 58205

Landholding Agency: Air Force

Property Number: 18200640021

Status: Unutilized

Reasons: Within 2000 ft. of flammable or explosive material; Within airport runway clear zone; Secured Area

13 Bldgs.

Grand Forks AFB

Grand Forks ND 58205

Landholding Agency: Air Force

Property Number: 18200640022

Status: Unutilized

Reasons: Within 2000 ft. of flammable or explosive material; Within airport runway clear zone; Secured Area

Bldgs. 1326, 1328, 1826

Grand Forks AFB

Grand Forks ND 58205

Landholding Agency: Air Force

Property Number: 18200640023

Status: Unutilized

Reasons: Within airport runway clear zone; Within 2000 ft. of flammable or explosive material; Secured Area

Bldg. 1324

Grand Forks AFB

Grand Forks ND 58205

Landholding Agency: Air Force

Property Number: 18200640024

Status: Unutilized

Reasons: Within 2000 ft. of flammable or explosive material; Within airport runway clear zone; Secured Area

Bldg. 1411

Grand Forks AFB

Grand Forks ND 58205

Landholding Agency: Air Force

Property Number: 18200640025

Status: Unutilized

Reasons: Within airport runway clear zone; Within 2000 ft. of flammable or explosive material; Secured Area

5 Bldgs.

Grand Forks

Grand Forks ND 58205

Landholding Agency: Air Force

Property Number: 18200640026

Status: Unutilized

Directions: 1222, 1516, 1203, 1207, 1512

Reasons: Secured Area; Within airport runway clear zone; Within 2000 ft. of flammable or explosive material

Bldg. 1325

Grand Forks AFB

Grand Forks ND 58205

Landholding Agency: Air Force

Property Number: 18200640027

Status: Unutilized

Reasons: Within 2000 ft. of flammable or explosive material; Secured Area

11 Bldgs.

Grand Forks AFB

Grand Forks ND 58205

Landholding Agency: Air Force

Property Number: 18200640028

Status: Unutilized

Reasons: Within airport runway clear zone; Within 2000 ft. of flammable or explosive material; Secured Area

18 Bldgs.

Grand Forks AFB

Grand Forks ND 58205

Landholding Agency: Air Force

Property Number: 18200640029

Status: Unutilized

Reasons: Within airport runway clear zone; Within 2000 ft. of flammable or explosive material; Secured Area

Bldg. 1520

Grand Forks AFB

Grand Forks ND 58205

Landholding Agency: Air Force

Property Number: 18200640030

Status: Unutilized

Reasons: Within airport runway clear zone; Within 2000 ft. of flammable or explosive material; Secured Area

Bldg. 1228

Grand Forks AFB

Grand Forks ND 58205

Landholding Agency: Air Force

Property Number: 18200640031

Status: Unutilized

Reasons: Within 2000 ft. of flammable or explosive material; Within airport runway clear zone; Secured Area

Bldg. 1849

Grand Forks AFB

Grand Forks ND 58205

Landholding Agency: Air Force

Property Number: 18200640032

Status: Unutilized

Reasons: Within 2000 ft. of flammable or explosive material; Secured Area

Bldg. 1813

Grand Forks AFB

Grand Forks ND 58205

Landholding Agency: Air Force

Property Number: 18200640033

Status: Unutilized

Reasons: Within 2000 ft. of flammable or explosive material; Secured Area

Bldg. 1839

Grand Forks AFB

Grand Forks ND 58205

Landholding Agency: Air Force

Property Number: 18200640034

Status: Unutilized

Reasons: Secured Area; Within 2000 ft. of flammable or explosive material

Bldg. 1809

Grand Forks AFB

Grand Forks ND 58205

Landholding Agency: Air Force

Property Number: 18200640035

Status: Unutilized

Reasons: Within 2000 ft. of flammable or explosive material; Secured Area

Pennsylvania

Bldg. 00635

Carlisle Barracks

Carlisle PA 17013

Landholding Agency: Army

Property Number: 21200640115

Status: Unutilized

Reasons: Extensive deterioration

South Carolina

Bldg. 243

169th Fighter Wing, SCANG

Eastover SC 29044

Landholding Agency: Air Force

Property Number: 18200640036

Status: Underutilized

Reasons: Secured Area

Bldg. 701-001P

Savannah River Site

Aiken SC 29802

Landholding Agency: Energy

Property Number: 41200640002

Status: Unutilized

Reasons: Secured Area

Bldgs. 105-1P, 105-6P

Savannah River Site

Aiken SC 29802

Landholding Agency: Energy

Property Number: 41200640003

Status: Unutilized

Reasons: Secured Area

Bldgs. 151-1P, 151-2P

Savannah River site

Aiken SC 29802

Landholding Agency: Energy

Property Number: 41200640004

Status: Unutilized

Reasons: Secured Area

Bldg. 191-P

Savannah River Site

Aiken SC 29802

Landholding Agency: Energy

Property Number: 41200640005

Status: Unutilized

Reasons: Secured Area

Bldg. 710-P

Savannah River Site

Aiken SC 29802

Landholding Agency: Energy

Property Number: 41200640006

Status: Unutilized

Reasons: Secured Area

Texas

Bldg. 11-029, Zone 11

Pantex Plant

Amarillo Co: Carson TX 79120

Landholding Agency: Energy

Property Number: 41200640007

Status: Unutilized

Reasons: Within 2000 ft. of flammable or explosive material; Secured Area

Bldg. 243

Naval Air Station Joint Reserve Base

Ft. Worth Co: Tarrant TX 76127

Landholding Agency: Navy

Property Number: 77200640035

Status: Unutilized

Reasons: Extensive deterioration; Secured Area

Bldg. 1430

Naval Air Station Joint Reserve Base

Ft. Worth Co: Tarrant TX 76127

Landholding Agency: Navy

Property Number: 77200640036

Status: Unutilized

Reasons: Extensive deterioration; Secured Area

Bldg. 1500

Naval Air Station Joint Reserve Base

Ft. Worth Co: Tarrant TX 76127

Landholding Agency: Navy

Property Number: 77200640037

Status: Unutilized

Reasons: Extensive deterioration; Secured Area

Bldg. 4151

Naval Air Station Joint Reserve Base

Ft. Worth Co: Tarrant TX 76127

Landholding Agency: Navy

Property Number: 77200640038

Status: Unutilized

Reasons: Secured Area; Extensive deterioration

Wyoming

Caretakers Residence

Anchor Dam

Thermopolis WY

Landholding Agency: Interior

Property Number: 61200640009

Status: Excess

Reasons: Extensive deterioration

Storage Bldg.

Anchor Dam

Thermopolis WY

Landholding Agency: Interior

Property Number: 61200640010

Status: Excess

Reasons: Extensive deterioration

[FR Doc. E6-21155 Filed 12-14-06; 8:45 am]

BILLING CODE 4210-67-P